FEDERAL COMMUNICATIONS COMMISSION

47 CFR Part 73

[DA 25-589; FR ID 303003]

Radio Broadcasting Services; Various Locations

AGENCY: Federal Communications Commission.

ACTION: Final rule.

SUMMARY: This document amends the Table of FM Allotments, of the Federal Communications Commission's (Commission) rules, by removing certain vacant FM allotment channels that were auctioned through our FM competitive bidding process and are no longer considered vacant FM allotments. The FM allotments are currently authorized licensed stations. FM assignments for authorized stations and reserved facilities will be reflected solely in Media Bureau's Licensing Management System (LMS). These FM allotment channels have previously undergone notice and comment rule making. This action constitutes an editorial change in the Table of FM Allotments. Therefore, we find for good cause that further notice and comment are unnecessary.

DATES: Effective July 17, 2025.

FOR FURTHER INFORMATION CONTACT: Rolanda F. Smith, Media Bureau, (202) 418-2054, Rolanda-Faye.Smith@fcc.gov.

SUPPLEMENTARY INFORMATION: This is a synopsis of the Commission's Order, adopted and released on July 9, 2025. The full text of this document is available online at https://apps.fcc.gov/ecfs/. The full text of this document can also be downloaded in Word or Portable Document Format (PDF) at https://docs.fcc.gov/public/attachments/DA-25-589A1.pdf. This document does not contain information collection requirements subject to the Paperwork Reduction Act of 1995, Public Law 104-13. The Commission will not send a copy of the Order in a report to be sent to Congress and the Government Accountability Office pursuant to the Congressional Review Act, see 5 U.S.C. 801(a)(1)(A), because the Order is a ministerial action.

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend Table 1 to Paragraph (b), in Table of FM Allotments, by removing the entries of “Mullin” under Texas and “New Holstein” under Wisconsin, and by revising the entry for “Junction” under Texas to read as follows:

§ 73.202 Table of Allotments.

* * * * *

(b) * * *

Table 1 to Paragraph (b)
[U.S. States]
| Channel No.
* * * * *
Texas
* * * * *
Junction | 290A
* * * * *

[FR Doc. 2025-13358 Filed 7-16-25; 8:45 am]

BILLING CODE 6712-01-P